ENVIRONMENTAL PROTECTION AGENCY

[EPA-HQ-TRI-2010-1022; FRL-9251-2]

Request Facilities To Report Toxics Release Inventory Information Electronically or Complete Fill-and-Print Reporting Forms

AGENCY: Environmental Protection Agency (EPA).

ACTION: Notice.

SUMMARY: With this document, the Environmental Protection Agency (EPA) strongly recommends facilities use the Toxics Release Inventory-Made Easy Web application (TRI-MEweb) to report and submit Toxics Release Information (TRI) data to EPA. TRI-MEweb provides useful features to facilitate the submission process and validates data to help ensure accuracy. Recognizing that some facilities are still using paper forms rather than TRI-MEweb, EPA is providing a new electronically fillable version of Form R, Form R Schedule 1, and Form A to make it easier for respondents to complete these forms and for EPA to read and process the submitted forms. The use of TRI-MEweb (the preferred method) or, alternatively, the Fill-and-Print TRI Forms will help ensure data accuracy, while also reducing the amount of time it takes for EPA to process TRI submissions and make valuable toxic chemical release and other waste management data available to the public.

FOR FURTHER INFORMATION CONTACT: For general information on TRI, contact the Emergency Planning and Community Right-to-Know Hotline at (800) 424-9346 or (703) 412-9810, TDD (800) 553-7672, http://www.epa.gov/epaoswer/hotline/. For specific information on this notice, contact David Turk, Toxics Release Inventory Program Division, Mailcode 2844T, OEI, Environmental Protection Agency, Ariel Rios Building, 1200 Pennsylvania Ave., NW., Washington, DC 20460; Telephone: (202) 566-1527; E-mail: Turk.David@epa.gov.

SUPPLEMENTARY INFORMATION:

Index

A. Does this notice apply to me?

B. How can I get copies of this document and other related information?

C. What is EPA requesting?

D. Why is EPA making this request?

E. Does this request address revisions?

F. Does this request address withdrawals?

G. What benefits does TRI-MEweb provide?

H. What benefits do electronically fillable forms provide?

I. What benefits should these recommendations produce?

A. Does this notice apply to me?

This notice applies to facilities that submit annual reports under section 313 of the Emergency Planning and Community Right-to-Know Act (EPCRA) and section 6607 of the Pollution Prevention Act (PPA). To determine whether your facility would be affected by this action, you should carefully examine the applicability criteria in part 372, subpart B, of Title 40 of the Code of Federal Regulations. Potentially affected categories and entities may include, but are not limited to:

Category | Examples of potentially affected entities
Industry | Facilities included in the following NAICS manufacturing codes (corresponding to SIC codes 20 through 39): 311*, 312*, 313*, 314*, 315*, 316, 321, 322, 323*, 324, 325*, 326*, 327, 331, 332, 333, 334*, 335*, 336, 337*, 339*, 111998*, 211112*, 212324*, 212325*, 212393*, 212399*, 488390*, 511110, 511120, 511130, 511140*, 511191, 511199, 512220, 512230*, 519130*, 541712*, or 811490*. *Exceptions and/or limitations exist for these NAICS codes.
| Facilities included in the following NAICS codes (corresponding to SIC codes other than SIC codes 20 through 39):
| • 212111, 212112, 212113 (correspond to SIC 12, Coal Mining (except 1241));
| • 212221, 212222, 212231, 212234, 212299 (correspond to SIC 10, Metal Mining (except 1011, 1081, and 1094));
| • 221111, 221112, 221113, 221119, 221121, 221122, 221330 (Limited to facilities that combust coal and/or oil for the purpose of generating power for distribution in commerce) (correspond to SIC 4911, 4931, and 4939, Electric Utilities);
| • 424690, 425110, 425120 (Limited to facilities previously classified in SIC 5169, Chemicals and Allied Products, Not Elsewhere Classified);
| • 424710 (corresponds to SIC 5171, Petroleum Bulk Terminals and Plants);
| • 562112 (Limited to facilities primarily engaged in solvent recovery services on a contract or fee basis (previously classified under SIC 7389, Business Services, NEC)); and
| • 562211, 562212, 562213, 562219, 562920 (Limited to facilities regulated under the Resource Conservation and Recovery Act, subtitle C, 42 U.S.C. 6921 et seq.) (correspond to SIC 4953, Refuse Systems).
Federal Government | Federal facilities.

If you have questions regarding the applicability of this notice to a particular entity, consult the individual listed in the preceding FOR FURTHER INFORMATION CONTACT section. This notice may also be of interest to those who utilize EPA's TRI information and have an interest in the public availability of high-quality, timely TRI data and information, including State agencies, local governments, communities, environmental groups and other non-governmental organizations, as well as members of the general public.

B. How can I get copies of this document and other related information?

1. Docket. EPA has established a docket for this action under Docket ID No. EPA-HQ-TRI-2010-1022; FRL-9251-2]. Publicly available docket materials are available either electronically through http://www.regulations.gov or in hard copy at the OEI Docket, EPA/DC, EPA West, Room 3334, 1301 Constitution Ave., NW., Washington, DC. This Docket Facility is open from 8:30 a.m. to 4:30 p.m., Monday through Friday, excluding legal holidays. The EPA Docket Center Public Reading Room is open from 8:30 a.m. to 4:30 p.m., Monday through Friday, excluding legal holidays. The telephone number for the Public Reading Room is (202) 566-1744, and the telephone number for the OEI Docket is (202) 566-1752.

2. Electronic Access. You may access this Federal Register document electronically through the EPA Internet under the Federal Register listings at http://www.epa.gov/fedrgstr/.

C. What is EPA requesting?

EPA strongly recommends that facilities that are required to report to the TRI program use TRI-MEweb to prepare and submit their TRI reporting forms to the Agency. TRI-MEweb offers facilities useful features and data validation tools that facilitate the submission process and help ensure the submission of accurate and complete information. Facilities have increasingly recognized the benefits of using TRI-MEweb, as reflected by the generally increasing percentage of facilities that submit TRI reporting forms electronically. Most recently, for Reporting Year (RY) 2009, the TRI program received 82,485 electronic submissions, including revisions, out of a total of 87,158 submissions. In other words, 94.6% of the RY 2009 submissions were electronic. Because such a large portion of TRI reporters already use TRI-MEweb, this request largely recognizes and applauds those facilities that already use the application and encourages the remainder of facilities to use TRI-MEweb as well. More information on how to use TRI-MEweb is accessible online at the TRI Web page (http://www.epa.gov/tri).

However, EPA recognizes that some facilities will elect not to use TRI-MEweb for RY 2010. For these facilities, EPA will facilitate the reporting and submittal process by providing electronically fillable versions (Fill-and-Print TRI Forms) of the Form R (including Schedule 1) and Form A reporting forms. These Fill-and-Print TRI Forms are accessible online (http://www.epa.gov/tri) and will allow facilities to complete forms on a computer by tabbing or clicking to each field within a form, thereby providing a quick and easy method to complete the TRI forms while making the completed forms highly readable.

To reiterate, EPA strongly recommends and requests that facilities use TRI-MEweb to report TRI data; however, if a facility elects not to use TRI-MEweb, EPA requests that the facility complete the appropriate Fill-and-Print TRI Form, obtain the signature of the facility's certifying official, and then mail the form to EPA. Similarly, if a facility prints a blank TRI reporting form instead of completing the form prior to printing it, EPA requests that the facility complete the form by using a typewriter. Facilities that elect to submit paper forms must still ultimately have their respective certifying officials sign their TRI forms by hand.

Facilities that submit trade secret information will continue to submit two versions of the substantiation form and two versions of Form R or Form A —sanitized versions that include the generic chemical name and unsanitized versions that include the trade secret chemical name. Facilities may not use TRI-MEweb to submit trade secret information. However, EPA strongly recommends that facilities that are submitting TRI trade secret information use a computer or typewriter to prepare the sanitized and unsanitized versions of Form R or Form A and use a typewriter to complete the sanitized and unsanitized versions of the substantiation form. Please consult the TRI Web site (http://www.epa.gov/tri) and the most recent version of the Toxic Chemical Release Inventory Reporting Forms, and Instructions (RFI), which is accessible at the TRI Web site, for detailed information concerning the submission of trade secret information.

D. Why is EPA making this request?

TRI-MEweb provides useful features that make it easier and quicker for facilities to provide TRI information to EPA. This online application provides validation tools to help ensure facilities provide accurate data and enables EPA to process and release the data faster than when the data are submitted on hard-copy forms. In light of the features and tools TRI-MEweb provides and the prevalence and availability of the Internet, EPA is considering issuing a proposed rule within the next year that would take comment on requiring facilities to utilize electronic reporting for future reporting years (i.e., not before RY 2011).

For facilities that elect not to use TRI-MEweb for RY 2010, EPA is providing, as an interim measure, electronically fillable versions of Form A, Form R, and Form R Schedule 1. The use of these Fill-and-Print TRI Forms should expedite the processing of submittals and prevent some inadvertent transcription errors from entering the TRI database. Specifically, to incorporate paper submissions into the TRI National Database, EPA must first manually transcribe paper submissions into an electronic database. Transcription errors can inadvertently occur during this process; and, because it can be difficult to read handwritten submissions, reports prepared by hand further increase the potential for errors to occur. Requesting facilities to complete electronically fillable TRI reporting forms prior to printing, certifying/signing, and submitting them should facilitate the completion and processing of paper submissions and prevent the introduction of errors arising from unclear handwriting.

E. Does this request address revisions?

Yes, this request also addresses the relatively few facilities who wish to revise TRI data. EPA strongly encourages facilities to use TRI-MEweb to revise TRI information associated with a prior reporting year. TRI-MEweb allows a facility to access and revise reports submitted for the five prior years, regardless of whether the facility has previously used TRI-MEweb to submit this information. However, at this point, a facility may still file revision requests using hard-copy forms if desired by using either (1) a photocopy of the original submission or (2) a blank copy of the current year's or applicable year's reporting form.

If a facility wishes to file a revision request by paper, EPA recommends that the facility use the appropriate 2010 TRI reporting form (Form R, Form R Schedule 1, or Form A), since these forms are now available in fill-and-print versions. However, EPA will also accept revisions on the applicable year's reporting form. TRI forms for reporting years prior to RY 2010 are not available in fill-and-print versions; however, if using such forms, EPA strongly encourages facilities to use a typewriter to complete the forms, rather than completing them by hand.

Please consult the most recent version of the RFI, which is accessible at the TRI Web site (http://www.epa.gov/tri), for detailed information concerning revisions.

F. Does this request address withdrawals?

Yes, the EPA strongly recommends facilities use TRI-MEweb if requesting the withdrawal of a previous TRI submission. TRI-MEweb allows a facility to access and withdraw reports submitted for the five prior years, regardless of whether the facility has previously used TRI-MEweb to submit this information. Alternatively, a facility may submit a withdrawal request by paper. For detailed instructions concerning withdrawals, please consult the most recent version of the RFI on the TRI Web site (http://www.epa.gov/tri).

G. What benefits does TRI-MEweb provide?

EPA requests that facilities use TRI-MEweb because the use of this application should provide benefits by expediting the processing of TRI reports, maximizing data accuracy, and reducing the amount of time it takes EPA to process and make the data available to the public. Achieving these benefits will enhance the public's knowledge about toxic chemical releases and other waste management information covered by the TRI program by helping ensure the timely public availability of accurate TRI data and information.

Appropriately, TRI-MEweb provides useful features and data validation tools that make it easy to submit accurate TRI information to EPA. Benefits include:

• Validation assistance, which prevents facilities from submitting incomplete or invalid information;

• Facility and chemical quick lists feature, which allows users to skip sections of the TRI Form R if they do not apply to the facility;

• Access to the five prior years of reporting data, which enables facilities to check past reporting submissions and revise or withdraw previously submitted information;

• The ability to submit valid chemical data files from third party software using eXtensible Markup Language (XML), which expedites multi-chemical reporting;

• The option to search for publicly owned treatment works (POTWs) and sites that report to EPA under the Resource Conservation and Recovery Act (RCRA) using location parameter data, which facilitates the completion of the off-site transfer location field on the TRI Form R and Form R Schedule 1;

• Preloaded parent company data, which assists facilities in identifying their parent company and helps ensure a facility is accurately matched with its parent company;

• Automatic calculation of Section 8 data on Form R and Form R Schedule 1 based on what a facility enters in Sections 5 and 6, which saves facilities time and prevents inadvertent mistakes;

• Trend reports, which compare current and prior year data to help facilities identify potential errors in reporting; and

• The automatic population of certain data fields based on the facility's TRI submissions from the previous reporting year, thereby expediting the submittal process and minimizing opportunities for inadvertent errors to enter the database.

H. What benefits do electronically fillable forms provide?

For facilities that decline to use TRI-MEweb, EPA believes the use of electronically fillable reporting forms will increase data accuracy and shorten the time it takes the Agency to process TRI reports. Completing forms using a computer before printing the forms or using a typewriter to complete blank forms should reduce the likelihood that inadvertent mistakes could occur while transcribing the data into an electronic database.

I. What benefits should these recommendations produce?

If facilities adhere to this request to use TRI-MEweb, or, alternatively, Fill-and-Print TRI Forms, the likelihood of inadvertent errors occurring during TRI form preparation or processing should be reduced. With the use of these tools, the Agency will be able to more effectively provide the public with access to the latest TRI data on toxic chemical releases and other waste management within communities.

Dated: January 4, 2011.
Robin Gonzalez,
Acting Director, Office of Information Analysis and Access.

[FR Doc. 2011-493 Filed 1-13-11; 8:45 am]

BILLING CODE 6560-50-P